DEPARTMENT OF TRANSPORTATION

Maritime Administration

[Docket No. 2014-0126]

Request for Comments of a Previously Approved Information Collection: Procedures for Determining Vessel Services Categories for Purposes of the Cargo Preference Act

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on July 7, 2014 (Federal Register 38356, Vol. 79, No. 129).

DATES: Comments must be submitted on or before November 17, 2014.

FOR FURTHER INFORMATION CONTACT: Dennis Brennan, 202-366-1029, Office of Cargo and Commercial Sealift, Maritime Administration, 1200 New Jersey Avenue SE., Washington, DC 20590.

SUPPLEMENTARY INFORMATION: Maritime Administration (MARAD).

Title: Procedures for Determining Vessel Services Categories for Purposes of the Cargo Preference Act.

OMB Control Number: 2133-0540.

Type of Request: Renewal of a Previously Approved Information Collection.

Abstract: The purpose is to provide information to be used in the designation of service categories of individual vessels for purposes of compliance with the Cargo Preference Act under a Memorandum of Understanding entered into by the U.S. Department of Agriculture, U.S. Agency for International Development, and the Maritime Administration. The Maritime Administration will use the data submitted by vessel operators to create a list of Vessel Self-Designations and determine whether the Agency agrees or disagrees with a vessel owner's designation of a vessel.

Affected Public: Owners or operators of U.S.-registered vessels and foreign-registered vessels.

Estimated Number of Respondents: 100.

Estimated Number of Responses: 100.

Annual Estimated Total Annual Burden Hours: 800/8 hours per Respondent.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: October 9, 2014.
Julie P. Agarwal,
Secretary, Maritime Administration.

[FR Doc. 2014-24636 Filed 10-15-14; 8:45 am]

BILLING CODE 4910-81-P